DEPARTMENT OF JUSTICE

Bureau of Prisons

Notice of Intent To Prepare a Draft Environmental Impact Statement for the Construction of Private Correctional Facilities in Florida, Georgia, and Mississippi

AGENCY: Bureau of Prisons, U.S. Department of Justice.

ACTION: Notice of intent to prepare a Draft Environmental Impact Statement (DEIS).

SUMMARY:

Proposed Action

The Bureau of Prisons (BOP) will prepare a DEIS for a Contractor-Owned and Contractor-Operated private correctional facility(ies) to house sentenced criminal aliens. The BOP is facing unprecedented growth in its inmate population. As a result, low security federal correctional institutions will be especially impacted. The projected growth in the population of sentenced criminal aliens will further exacerbate these low security population demands.

The BOP will be soliciting for a Contractor-Owned and Contractor-Operated correctional facility(ies) to house approximately 1,500 low security, male, non U.S. citizen criminal aliens. Proposed facility(ies) may include construction of a new facility, expansion of an existing facility, or use of an existing facility. Fourteen sites throughout Florida, Georgia and Mississippi have been identified by contractors and offered to the BOP for consideration. The proposed sites have been submitted by the following contractors:

Alternative Programs, Inc. (1) 160 acres of partially developed land located approximately eight miles south of the city limits of Lucedale, MS. Owned by the George County School District.

Correctional Corporation of America (CCA): (1) Tallahatchie County Correctional Facility, located north of the City of Tutwiler on U.S. Highway 49, Tutwiler, MS.; (2) Stewart Correctional Facility located two miles southeast of Lumpkin, GA. On County Road 99; (3) McRae Correctional Facility, Highway 23 southeast of McRae, GA.

Cornell Corrections: (1) 85 acres of primarily undeveloped and forested land, east of John E. Lewis Drive in McComb, MS.; (2) 347 acres of land south of Bucksnort Road, 6 miles west of Interstate Highway 75, Jackson, GA.; (3) 70 acre tract of land west of State Highway 252 (Burnt Fort Road), Folkston, GA.; (4) 495 acre tract of land, south of State Road 60 west of the State Road 676 intersection near Mulberry, FL.

Wackenhut Corrections Corporation: (1) 70 acres of vacant land, eastside of Dummy Line Road, west of U.S. Highway 49, Wiggins, MS.; (2) 50 acres on the southeast portion of General Portland Lafarge Cement Plant Site, intersection of North Kendall Drive and Krome Avenue, Kendall, FL.

Correctional Services Corporation: (1) 40 acres of land five miles from I-59 and 75-80 miles north, Poplarville, MS.; (2) 250 acres, Lumberton Industrial Park, Lumberton, MS.; (3) 65 acres of undeveloped land, Land Lot #14 of the 13th District of Clayton County, Forest Park, GA.

Greene County Board of Supervisors: (1) 90 acres of land owned by Greene County, adjacent to the State correctional facility, east of State Highway 63, three miles north-northwest of the city of Leakesville, MS.

Each proposed site submitted to the BOP is in response to the Commerce Business Daily Notice issued April 3rd. The notice required potential offerors to submit a Phase I environmental Survey conducted in accordance with the American Society for Testing and Materials, Standard Practice for Environmental Site Assessment Process. Also included as a “non-scope consideration” under Chapter 12 of the Standard Practice are a delineation or identification of on-site wetlands, and an analysis of potential impacts to threatened or endangered species, or species of special status. In further evaluation of these sites, several aspects will receive detailed examination including utilities, traffic patterns, noise, cultural resources, threatened and endangered species and land uses.

The BOP intends to award a firm-fixed price contract with award-fee incentives; a potential term of ten years consisting of a three-year base and seven one-year option periods; a performance-based statement of work based generally on the American Correctional Association Standards; and a management emphasis on contractor quality control. After publication of this notice, the BOP will issue a Request for Proposals (RFPs). Proposals may be offered for any or all of the 14 sites.

Alternatives

Alternatives will include the no action alternative, and all proposals received in response to the RFPs. Each alternative will be identified and fully examined. The DEIS will not contain a preferred alternative(s).

Scoping Process

Pursuant to the National Environmental Policy Act of 1969, as amended, (NEPA), a Scoping process will be conducted. As part of this process, public meetings will be held in Florida, Georgia, and Mississippi, to identify issues of concern for analysis during the NEPA process. Information packets containing a description of each site will be available during the meetings. Copies of the Phase I Environmental Site Assessments will be made available upon written request. During the preparation of the DEIS, there will be numerous opportunities for public involvement. The meetings, locations, dates and times will be well publicized in the local newspaper of record in the affected communities adjacent to the potential sites. Meetings will be held to allow interested persons to voice their concerns on the scope and significant issues to be examined as part of the NEPA process. The Scoping process is being held to provide for timely public comments and understanding of Federal plans and programs with possible environmental consequences as required by NEPA and the National Historic Preservation Act of 1966.

DEIS Preparation

Public notice will be given in the Federal Register and the local newspaper of record concerning the availability of the DEIS for public review and comment.

ADDRESSES: Questions concerning the proposed action and the DEIS may be directed to: David J. Dorworth, Chief, Site Selection and Environmental Review Branch, Federal Bureau of Prisons, 320 First Street, NW., Washington, DC 20534, Attention: Debra J. Hood, Telephone: 202-514-6470, Telefacsimile: 202-616-6024. E-mail: siteselection@bop.gov

Dated: July 21, 2000.
David J. Dorworth,
Chief, Site Selection and Environmental Review Branch.

[FR Doc. 00-18950 Filed 7-26-00; 8:45 am]

BILLING CODE 4410-5-P